Title 3—

The President

Proclamation 8708 of September 9, 2011

National Days of Prayer and Remembrance, 2011

By the President of the United States of America

A Proclamation

Ten years ago, a bright September day was darkened by the worst terrorist attack on America in our Nation’s history. On this tenth anniversary of the tragic events of September 11, 2001, we lift in prayer and remembrance the men, women, and children who died in New York City, in Pennsylvania, and at the Pentagon, and we honor the countless heroes who responded to senseless violence with courage and compassion. We continue to stand with their families and loved ones, while striving to ensure the legacy of those we lost is a safer, stronger, and more resilient Nation.

Since that day, a generation has come of age bearing the burden of war. The 9/11 Generation of service members and their families has stepped up to defend our security at home and abroad. They volunteer, knowing they might be sent into harm’s way, and they uphold the virtues of selflessness and sacrifice that have always been at the center of our Nation’s strength. We pay humble tribute to all those who serve in our Armed Forces, and to the thousands of brave Americans who have given their last full measure of devotion during this difficult decade of war.

First responders, law enforcement officials, service members, diplomats—the range of Americans who have dedicated themselves to building a safer world is awe-inspiring. We have put unprecedented pressure on those who attacked us 10 years ago and put al-Qa’ida on the path to defeat. Around the globe, we have joined with allies and partners to support peace, security, prosperity, and universal rights. At home, communities have come together to make us a stronger country, united by our diversity, our character, and our enduring principles.

Today, our Nation still faces great challenges, but this last decade has proven once more that, as a people, we emerge from our trials stronger than before. During these days of prayer and remembrance, a grateful Nation gives thanks to all those who have given of themselves to make us safer. And in memory of the fathers and mothers, sons and daughters, brothers and sisters, and friends and loved ones taken from us 10 years ago, let us join again in common cause to build a more hopeful world.

NOW, THEREFORE, I, BARACK OBAMA, President of the United States of America, by virtue of the authority vested in me by the Constitution and the laws of the United States, do hereby proclaim Friday, September 9 through Sunday, September 11, 2011, as National Days of Prayer and Remembrance. I ask that the people of the United States honor and remember the victims of September 11, 2001, and their loved ones through prayer, contemplation, memorial services, the visiting of memorials, the ringing of bells, evening candlelight remembrance vigils, and other appropriate ceremonies and activities. I invite people around the world to participate in this commemoration.

IN WITNESS WHEREOF, I have hereunto set my hand this ninth day of September, in the year of our Lord two thousand eleven, and of the Independence of the United States of America the two hundred and thirty-sixth.

[FR Doc. 2011-23744

Filed 9-13-11; 11:15 am]

Billing code 3195-W1-P